DEPARTMENT OF LABOR

Employment and Training Administration

Comment Request for Information Collection for Reemployment Demonstration Grants and Projects, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). This program helps ensure that requested data can be provided in the desired format, reporting burden (time and financial resources) is minimized, collection instruments are clearly understood, and the impact of collection requirements on respondents can be properly assessed. Currently, ETA is soliciting comments concerning the collection of data about reemployment demonstration grants and projects, expiring 10/31/2012.

DATES: Written comments must be submitted to the office listed in the addresses section below on or before November 19, 2012.

ADDRESSES: Submit written comments to Scott Gibbons, Office of Unemployment Insurance, Employment and Training Administration, U.S. Department of Labor, 200 Constitution Avenue NW., Washington, DC 20210. Telephone number: 202-693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

The Middle Class Tax Relief and Job Creation Act of 2012 (Pub. L. 112-96) provides states with the opportunity to pilot new and innovative strategies to better help connect unemployed Americans with work. Section 2102 of the Extended Benefits, Reemployment, and Program Integrity Improvement Act (Act) enacts a new Section 305 of the Social Security Act (SSA) which allows the Secretary of Labor (Secretary) to enter into agreements with up to 10 states that submit applications for approval to conduct demonstration projects to test and evaluate measures to expedite reemployment of certain individuals found eligible for unemployment compensation (UC), or to improve the effectiveness of a state in carrying out its state law with respect to reemployment.

Section 305(a)(1), SSA, as enacted, establishes two purposes for which the Secretary may grant approval for states to conduct demonstration projects: (1) To test and evaluate measures designed to expedite the reemployment of individuals who establish a benefit year and are otherwise eligible to receive UC “under the state law of such state [the state submitting the application]”; or (2) to improve the effectiveness of a state in carrying out its state law with respect to reemployment.

ETA will provide states with guidance explaining the provisions of the new law, and laying out the application procedure that states must follow in order to be considered for this program. This PRA package consists of several elements:

• The guidance explaining the provisions of the new law, and the application process

• An application checklist to ensure the submission package is complete

• A draft agreement that will serve as the template for each individual state agreement

• Draft reporting requirements

• Data elements that states must be able to produce for evaluation

In addition to Public Law 112-96, collection of data necessary for oversight of the program is authorized under Section 303(a)(6) of the Social Security Act. In order for states to prepare their summary reports and to be in compliance with these new requirements of the law, ETA believes states will need to collect this information from employers.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submissions of responses.

III. Current Actions

Type of Review: Extension without changes.

Title: Reemployment Demonstration Grants and Projects.

OMB Number: 1205-0492.

Affected Public: State Workforce Agencies.

Form(s): Unemployment Insurance Program Letter (UIPL) 15-12 (http://wdr.doleta.gov/directives/corr_doc.cfm?DOCN=8173) and UIPL 15-12, change 1, (http://wdr.doleta.gov/directives/corr_doc.cfm?DOCN=5913).

Total Annual Respondents: 10.

Annual Frequency: One time and quarterly.

Total Annual Responses: 50.

Average Time per Response: 9.66 hours per response (average).

Estimated Total Annual Burden Hours: 5,600.

Total Annual Burden Cost for Respondents: There are no annualized costs to respondents.

Comments submitted in response to this comment request will be summarized and/or included in the request for OMB approval of the ICR; they will also become a matter of public record.

Dated: Signed in Washington, DC, on this 10th day of September, 2012.
Jane Oates,
Assistant Secretary for Employment and Training, Labor.

[FR Doc. 2012-22931 Filed 9-17-12; 8:45 am]

BILLING CODE 4510-FW-P